DEPARTMENT OF THE INTERIOR

Bureau of Land Management

[LLWO320000 L13300000 PO0000]

Extension of Approved Information Collection, OMB Control Number 1004-0121

AGENCY: Bureau of Land Management, Interior.

ACTION: 60-day notice and request for comments.

SUMMARY: In accordance with the Paperwork Reduction Act of 1995, the Bureau of Land Management (BLM) announces its intention to request that the Office of Management and Budget (OMB) extend approval for the paperwork requirements in 43 CFR parts 3500 through 3590, which cover leasing of solid minerals other than coal and oil shale.

DATES: You must submit your comments to the BLM at the address below on or before August 17, 2009. The BLM is not obligated to consider any comments postmarked or received after the above date.

ADDRESSES: You may mail comments to: U.S. Department of the Interior, Bureau of Land Management, Mail Stop 401-LS, 1849 C St., NW., Washington, DC 20240, Attention: 1004-0121. You may also comment by e-mail at: Jean_Sonneman@blm.gov. Comments will be available for public review at the L Street address during regular business hours (7:45 a.m. to 4:15 p.m.), Monday through Friday, excluding Federal holidays.

FOR FURTHER INFORMATION CONTACT: You may contact Vincent Vogt, Solid Minerals Group, at 202-785-6570 (Commercial or FTS). Persons who use a telecommunication device for the deaf (TDD) may call the Federal Information Relay Service (FIRS) on 1-800-877-8330, 24 hours a day, seven days a week, to contact Mr. Vogt. You may also contact Mr. Vogt to obtain a copy, at no cost, of the regulations and forms that require this collection of information.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR parts 3500 through 3590. The BLM will request that the OMB approve this information collection activity for a 3-year term.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany the BLM's submission of the information collection requests to OMB.

The following information is provided for the information collection:

Title: Leasing of Solid Minerals Other Than Coal and Oil Shale (43 CFR 3500-3590).

Forms:

• Form 3504-1, Personal Bond and Power of Attorney;

• Form 3504-3, Bond Under Lease;

• Form 3504-4, Statewide or Nationwide Personal Mineral Bond for Prospecting Permits and Leases;

• Form 3510-1, Prospecting Application and Permit;

• Form 3510-2, Phosphate or Sodium Use Permit; and

• Form 3520-7, Lease.

OMB Control Number: 1004-0121.

Abstract: This notice pertains to information collections that are necessary for the management of leases and prospecting permits for solid minerals other than coal and oil shale. The BLM manages such leases and permits under the Mineral Leasing Act of 1920, the Mineral Leasing Act for Acquired Lands (30 U.S.C. 351-359), the Multiple Mineral Development Act (30 U.S.C. 521-531), and other statutes that authorize the Secretary of the Interior to regulate the development of mineral deposits on Federal lands. The information collections covered by this notice are found at 43 CFR parts 3500 through 3590, and in the forms listed above.

Frequency: On occasion.

Estimated Number and Description of Respondents: Approximately 430 Federal leases are in effect in this program, which are controlled by many operators.

Estimated Reporting and Recordkeeping “Hour” Burden: The currently approved annual reporting burden for this collection is 6,522 hours. The following chart details the individual components and respective hour burden estimates of this information collection request:

Regulation 43 CFR | Type of application | Number of responses | Hours per response
3502 | Qualification Statement | 10 | 1
3503 | Area Avail. for Leasing | 10 | 1
3504 | Bond Forms 3504-1, 3504-3 and 3504-4 | 36 | 4
3505 | Prospecting Permit Form 3510-1 | 46 | 10
3506 | Exploration License | 2 | 3
3507 | Preference Right Lease Form 3520-7 | 2 | 300
3508 | Competitive Lease Bid | 5 | 20
3509 | Fractional, Future Interest Lease Form 3520-7 | 1 | 20
3510 | Fringe Acreage Lease or Lease Modification Form 3520-7 | 5 | 20
3511 | Lease Renewal or Adjustment Form 3520-7 | 22 | 1
3512 | Assignment or Sublease | 28 | 6
3513 | Royalty Rental Reduction | 1 | 40
3514 | Relinquishment and Cancellations | 1 | 40
3515 | Lease Exchanges | 1 | 40
3516 | Use Permit Form 3510-2 | 1 | 1
3517 | Development Contract | 1 | 1
3581 | Gold, Silver Land Grant | 1 | 40
3583 | Shasta Trinity Units | 1 | 20
3585 | White Mtn. Alaska | 1 | 20
3592 | Mine Plan | 30 | 150
3593 | Bore Holes/Samples | 23 | 1
3597 | Production Records | 80 | 2
Total |  | 308 |

Estimated Reporting and Recordkeeping “Non-Hour Cost” Burden: The currently approved annual non-hour cost burden for Control Number 1004-0121 is $7,611. All of the non-hour cost burdens are for non-refundable filing fees.

The PRA (44 U.S.C. 3501, et seq.) provides that an agency may not conduct or sponsor a collection of information unless it displays a currently valid OMB control number. Until OMB approves a collection of information, you are not obligated to respond.

The BLM will summarize all responses to this notice and include them in the request for OMB approval. All comments will become a matter of public record.

Before including your address, phone number, email address, or other personal identifying information in your comment, you should be aware that your entire comment—including your personal identifying information—may be made publicly available at any time. While you can ask us in your comment to withhold your personal identifying information from public review, we cannot guarantee that we will be able to do so.

Jean Sonneman,
Acting Information Collection Clearance Officer, Bureau of Land Management.

[FR Doc. E9-14180 Filed 6-16-09; 8:45 am]

BILLING CODE 4310-84-P